DEPARTMENT OF JUSTICE

[OMB Number 1121-0336]

Agency Information Collection Activities; Proposed eCollection eComments Requested; Revision of a Currently Approved Collection: Office for Victims of Crime Training and Technical Assistance Center—Trafficking Information Management System (TIMS)

AGENCY: Office for Victims of Crime, Department of Justice.

ACTION: 60-Day notice.

SUMMARY: The Department of Justice (DOJ), Office of Justice Programs, Office for Victims of Crime, will be submitting the following information collection request to the Office of Management and Budget (OMB) for review and approval in accordance with the Paperwork Reduction Act of 1995.

DATES: Comments are encouraged and will be accepted for 60 days until October 12, 2021.

FOR FURTHER INFORMATION CONTACT: If you have additional comments especially on the estimated public burden or associated response time, suggestions, or need a copy of the proposed information collection instrument with instructions or additional information, please contact Shelby Jones Crawford, (202) 532-3611, Program Manager, Office for Victims of Crime, Office of Justice Programs, Department of Justice, 810 7th Street NW, Washington, DC 20530.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Revision of Existing Collection.

2. The Title of the Form/Collection: Office for Victims of Crime Training and Technical Assistance Center- Trafficking Information Management System (TIMS).

3. The agency form number, if any, and the applicable component of the Department sponsoring the collection: NA. The applicable component within the Department of Justice is the Office for Victims of Crime, in the Office of Justice Programs.

4. Affected public who will be asked or required to respond, as well as a brief abstract:

Primary: OVC Grantees.

Abstract: The current package for OMB approval is designed to simplify performance reporting for OVC grantees through the OVC Trafficking Information Management System (TIMS) Online system, a Web-based database and reporting system for the Victims of Human Trafficking Grant and the Enhanced Collaborative Model Grant initiatives. OVC will require OVC Grantees to use this electronic tool to submit grant performance data, including demographics about human trafficking victims. Since 2012, OVC has published annual analyses of these data to provide the crime victims' field with stronger evidence for practices and programs.

5. An estimate of the total number of respondents and the amount of time estimated for an average respondent to respond: There are approximately 60 OVC Services to Victims of Human Trafficking Grantees per six-month reporting period. On average, it should take each grantee one hour to seven hours, depending on client case load per reporting period, to enter information into TIMS Online. There are two reporting periods per year.

6. An estimate of the total public burden (in hours) associated with the collection: 480 hours (average 60 OVC grantees * average 4 hours * 2 times per year).

If additional information is required contact: Jerri Murray, Department Clearance Officer, United States Department of Justice, Justice Management Division, Policy and Planning Staff, Two Constitution Square, 145 N Street NE, 3E.405B, Washington, DC 20530.

Dated: August 3, 2021
Melody Braswell,
Department Clearance Officer for PRA, U.S. Department of Justice.

[FR Doc. 2021-16893 Filed 8-9-21; 8:45 am]

BILLING CODE 4410-18-P